DEPARTMENT OF ENERGY

Federal Energy Regulatory Commission

[Docket Nos. CP01-260-000, CP01-439-000, and CP02-142-000]

Columbia Gas Transmission Corporation; Notice of Public Meeting

August 16, 2002.

Take notice that a meeting is scheduled in the above-captioned proceedings for September 4, 2002, at 2 p.m., in Room No. 62-26, at the Federal Energy Regulatory Commission, 888 First Street, NE., Washington, DC 20426. The meeting was requested by Columbia Gas Transmission Corporation for the purpose of discussing potential modifications to the projects in the referenced dockets. Any interested persons may attend.

Linwood A. Watson, Jr.,
Deputy Secretary.

[FR Doc. 02-21384 Filed 8-21-02; 8:45 am]

BILLING CODE 6717-01-P